DEPARTMENT OF THE INTERIOR

National Park Service

National Register of Historic Places; Notification of Pending Nominations and Related Actions

Nominations for the following properties being considered for listing or related actions in the National Register were received by the National Park Service before June 2, 2007.

Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by July 5, 2007.

J. Paul Loether,
Chief, National Register of Historic Places/National Historic Landmarks Program.

COLORADO

Las Animas County

Aultman House, 711 Colorado Ave., Trinidad, 07000673

DISTRICT OF COLUMBIA

District of Columbia

Sixteenth Street Historic District (Boundary Increase), 16th St., NW., Washington, 07000671

KENTUCKY

Bracken County

Baker Vineyard and Wine Cellar (Boundary Increase), 4465 W. Augusta-Chatham Rd., Augusta, 07000679

Campbell County

Weber, John, Farm, (German Settlement, Four Mile Creek Area TR) 6231 Four Mile Rd., Camp Springs, 07000672

Clark County

Corinth Christian Methodist Episcopal Church, 1180 L & E Junction Rd., Winchester, 07000678

Jefferson County

Olympic, The, 223 W. Breckinridge St., Louisville, 07000677

Knott County

Bolen Building, 85 W. Main St., Hindman, 07000676

Hindman Ben Franklin, 16 W. Main St., Hindman, 07000675

Pulaski County

Gover-Hardin House, 307 W. Mt. Vernon St., Somerset, 07000674

MASSACHUSETTS

Middlesex County

Old Billerica Road Historic District, 229-301 Old Billerica Rd., Bedford, 07000681

Plymouth County

Wright Memorial Library, 147 St. George St., Duxbury, 07000680

Worcester County

Pan Burying Ground, 477 Main St., Bolton, 07000682

MISSOURI

Cape Girardeau County

Cape Girardeau Commercial Historic District (Boundary Increase), (Cape Girardeau, Missouri MPS) 101 N. Main St., Cape Girardeau, 07000683

TENNESSEE

Davidson County

McGavock—Gatewood Webb House, 908 Meridian St., Nashville, 07000688

Sevier County

Settlement School Community Outreach Historic District, (Pi Beta Phi Settlement School MPS) 556 Parkway, Gatlinburg, 07000686

White Oak Flats Cemetery, Cemetery Rd., Gatlinburg, 07000685

Shelby County

Vollintine Hills Historic District, (Memphis MPS) Roughly bounded by Bollintine, Brown, McLean, and Evergreen, Memphis, 07000684

Wilson County

Lebanon Woolen Mills, 218 N. Maple St., Lebanon, 07000687

TEXAS

Galveston County

USS STEWART, East End of Seawolf Park, Galveston, 07000689

La Salle County

La Salle County Courthouse, 101 Courthouse Square, Cotulla, 07000690

Rockwall County

First Methodist Church of Rockwall, 303 E. Rusk, Rockwall, 07000691

VERMONT

Orange County

Foundry Bridge, VT 25, Tunbridge, 07000692

Rutland County

Crown Point Road:Socialborough South Line to Otter Creek Crossing, (Crown Point Road MPS) Address Restricted, Clarendon, 07000693

Crown Point Road: Stevens Site South Road Segment, (Crown Point Road MPS) Address Restricted, Proctor, 07000694

[FR Doc. E7-11726 Filed 6-18-07; 8:45 am]

BILLING CODE 4312-51-P